DEPARTMENT OF THE INTERIOR

National Park Service

Notice of Inventory Completion: Horner Collection, Oregon State University, Corvallis, OR

AGENCY: National Park Service, Interior.

ACTION: Notice.

Notice is here given in accordance with the Native American Graves Protection and Repatriation Act (NAGPRA), 25 U.S.C. 3003, of the completion of an inventory of human remains in the possession of the Horner Collection, Oregon State University, Corvallis, OR. The human remains were removed from Wasco County, OR.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Horner Collection, Oregon State University professional staff in consultation with representatives of the Confederated Tribes of the Warm Springs Reservation of Oregon.

The Museum of Oregon Country, Oregon Agricultural College was renamed the John B. Horner Museum of the Oregon Country in 1936, and became commonly known as the Horner Museum. The Oregon Agricultural College was renamed the Oregon State College in 1937, and became Oregon State University in 1962. The Horner Museum closed in 1995. Currently, cultural items from the Horner Museum are referred to as the Horner Collection, which is owned by, and in the possession of, Oregon State University.

At an unknown time, human remains representing a minimum of five individuals were removed from an unknown site in Shaniko, Wasco County, OR. In December 1974, Keith Chamberlain gifted three skulls and three mandibles to the John B. Horner Museum of the Oregon Country. It is unknown whether the human remains were removed by Mr. Chamberlain. Upon examination of the human remains it was discovered that two of the three mandibles originally thought to be associated with two of the three skulls, in fact represented an additional two individuals. No known individuals were identified. No associated funerary objects are present.

A handwritten note in the museum file states, “3 (skulls) - mineralized - from Shaniko Eastern Oregon from Stone Age Site.” The author of this note is unknown. The “Stone Age Site” referred to is unknown. Shaniko, Wasco County, OR, is within the territory ceded to the United States in the Treaty of Wasco, Columbia River, Oregon Territory, June 1855, by the Confederated Tribes of the Warm Springs Reservation of Oregon.

Officials of the Horner Collection, Oregon State University have determined that, pursuant to 25 U.S.C. 3001 (9-10), the human remains described above represent the physical remains of five individuals of Native American ancestry. Officials of the Horner Collection, Oregon State University have also determined that, pursuant to 25 U.S.C. 3001 (2), there is a relationship of shared group identity that can be reasonably traced between the Native American human remains and the Confederated Tribes of the Warm Springs Reservation of Oregon.

Representatives of any other Indian tribe that believes itself to be culturally affiliated with the human remains should contact Sabah Randhawa, Executive Vice President and Provost, President's Office, Oregon State University, 600 Kerr Administration Building, Corvallis, OR 97331, telephone (541) 737-8260, before September 2, 2005. Repatriation of the human remains to the Confederated Tribes of the Warm Springs Reservation of Oregon may proceed after that date if no additional claimants come forward.

Horner Collection, Oregon State University is responsible for notifying the Confederated Tribes of the Warm Springs Reservation of Oregon that this notice has been published.

Dated: June 26, 2005
Sherry Hutt,
Manager, National NAGPRA Program.

[FR Doc. 05-15319 Filed 8-2-05; 8:45 am]

BILLING CODE 4312-50-S